FEDERAL COMMUNICATIONS COMMISSION

47 CFR Parts 0 and 1

Nomenclature Changes to the Code of Federal Regulations

AGENCY: Federal Communications Commission.

ACTION: Final rule.

SUMMARY: This document makes several nomenclature changes throughout the Commission's title of the Code of Federal Regulations. This action is necessary in order to update several addresses and office designations.

DATES: Effective March 29, 2006.

FOR FURTHER INFORMATION CONTACT: Alethea Small, Office of the Secretary, (202) 418-0310.

SUPPLEMENTARY INFORMATION: This amendment is made pursuant to § 0.231(b) of the Commission's rules, 47 CFR 0.231. Because the rule amendments adopted here are a matter of agency practice and procedure, compliance with the notice and comment and effective date provisions of the Administrative Procedure Act is not required.¹

¹ 5 U.S.C. 553(b)(A); (d).

List of Subjects

47 CFR Part 0

Reporting and recordkeeping requirements.

47 CFR Part 1

Administrative practice and procedure, Reporting and recordkeeping requirements.

Federal Communications Commission.
Marlene H. Dortch,
Secretary.

Rules Changes

For the reasons discussed in the preamble, the Federal Communications Commission amends parts 0 and 1 of title 47 of the Code of Federal Regulations as follows:

PART 0—COMMISSION ORGANIZATION

1. The authority citation for part 0 continues to read as follows:

Authority: Secs. 5, 48 Stat. 1068, as amended; 47 U.S.C. 155.

2. Section 0.251 is amended by revising paragraph (e) to read as follows:

§ 0.251 Authority delegated.

* * * * *

(e) The official record of all actions taken by the General Counsel pursuant to § 0.251 (c) and (d) is contained in the original docket folder, which is maintained by the Reference Information Center.

* * * * *

3. Section 0.401 is amended by revising paragraph (a)(1)(ii) to read as follows:

§ 0.401 Location of Commission offices.

* * * * *

(a) * * *

(1) * * *

(ii) Hand-carried documents should be delivered to the Secretary's Office at 236 Massachusetts Avenue, NE., Washington, DC 20002.

* * * * *

4. Section 0.491 is revised to read as follows:

§ 0.491 Application for exemption from compulsory ship radio requirements.

Applications for exemption filed under the provisions of sections 352(b) or 383 of the Communications Act; Regulation 4, chapter I of the Safety Convention; Regulation 5, chapter IV of the Safety Convention; or Article IX of the Great Lakes Agreement, must be filed as a waiver request using the procedures specified in § 0.482 of this part. Emergency requests must be filed via the Universal Licensing System or at the Federal Communications Commission, Office of the Secretary.

5. Section 0.606 is amended by revising the last sentence of paragraph (a) to read as follows:

§ 0.606 Procedures for closing a meeting to the public.

(a) * * * Certifications will be retained in a public file in the Office of the Secretary.

* * * * *

6. Section 0.607 is amended by revising the first sentence in paragraph (b) to read as follows:

§ 0.607 Transcript, recording or minutes; availability to the public.

* * * * *

(b) A public file of transcripts (or minutes) of closed meetings will be maintained in the Office of the Secretary. * * *

* * * * *

PART 1—PRACTICE AND PROCEDURE

7. The authority citation for part 1 continues to read as follows:

Authority: 15 U.S.C. 79 et seq.; 47 U.S.C. 151, 154(i), 154(j), 155, 157, 225, and 303(r).

8. Section 1.4 is amended by revising the first sentence of paragraph (f) to read as follows:

§ 1.4 Computation of time.

* * * * *

(f) Except as provided in § 0.401(b) of this chapter, all petitions, pleadings, tariffs or other documents not required to be accompanied by a fee and which are hand-delivered must be tendered for filing in complete form, as directed by the Rules, with the Office of the Secretary before 7 p.m., at 236 Massachusetts Ave, NE., Washington, DC 20002. * * *

* * * * *

9. Section 1.260 is revised to read as follows:

§ 1.260 Certification of transcript.

After the close of the hearing, the complete transcript of testimony, together with all exhibits, shall be certified as to identity by the presiding officer and filed in the Office of the Secretary. Notice of such certification shall be served on all parties to the proceedings.

10. Section 1.277 is amended by revising the first sentence of paragraph (e) to read as follows:

§ 1.277 Exceptions; oral arguments.

* * * * *

(e) Within 10 days after a transcript of oral argument has been filed in the Office of the Secretary, any party who participated in the oral argument may file with the Commission a motion requesting correction of the transcript, which motion shall be accompanied by proof of service thereof upon all other parties who participated in the oral argument. * * *

* * * * *

11. Section 1.773 is amended by revising paragraphs (a)(4) and (b)(3) to read as follows:

§ 1.773 Petitions for suspension or rejection of new tariff filings.

(a) * * *

(4) Copies, service. An original and four copies of each petition shall be filed with the Commission as follows: The original and three copies of each petition shall be filed with the Secretary, 236 Massachusetts Ave., NE., Washington, DC 20002; one copy must be delivered directly to the Commission's copy contractor. Additional, separate copies shall be served simultaneously upon the Chief, Wireline Competition Bureau; and the Chief, Pricing Policy Division. Petitions seeking investigation, suspension, or rejection of a new or revised tariff made on 15 days or less notice shall be served either personally or via facsimile on the filing carrier. If a petition is served via facsimile, a copy of the petition must also be sent to the filing carrier via first class mail on the same day of the facsimile transmission. Petitions seeking investigation, suspension, or rejection of a new or revised tariff filing made on more than 15 days notice may be served on the filing carrier by mail.

(b) * * *

(3) Copies, service. An original and four copies of each reply shall be filed with the Commission, as follows: the original and three copies must be filed with the Secretary, 236 Massachusetts Ave., NE., Washington, DC 20002; one copy must be delivered directly to the Commission's copy contractor. Additional separate copies shall be served simultaneously upon the Chief, Wireline Competition Bureau, the Chief, Pricing Policy Division and the petitioner. Replies to petitions seeking investigation, suspension, or rejection of a new or revised tariff made on 15 days or less notice shall be served on petitioners personally or via facsimile. Replies to petitions seeking investigation, suspension, or rejection of a new or revised tariff made on more than 15 days notice may be served upon petitioner personally, by mail or via facsimile.

12. Section 1.774 is amended by revising paragraph (e)(2)(ii) to read as follows:

§ 1.774 Pricing flexibility.

* * * * *

(e) * * *

(2) * * *

(ii) Any interested party electing to file an opposition or comment in response to a pricing flexibility petition through a method other than ETFS must file an original and four copies of each opposition or comment with the Commission, as follows: the original and three copies of each pleading shall be filed with the Secretary, 236 Massachusetts Ave., NE., Washington, DC 20002; one copy must be delivered directly to the Commission's copy contractor. Additional, separate copies shall be served upon the Chief, Wireline Competition Bureau and the Chief, Pricing Policy Division.

* * * * *

13. Section 1.939 is amended by revising paragraph (b) to read as follows:

§ 1.939 Petitions to deny.

* * * * *

(b) Filing of petitions. Petitions to deny and related pleadings may be filed electronically via ULS. Manually filed petitions to deny must be filed with the Office of the Secretary, 236 Massachusetts Ave., NE., Washington, DC 20002. Attachments to manually filed applications may be filed on a standard 3¼″ magnetic diskette formatted to be readable by high density floppy drives operating under MS-DOS (version 3.X or later compatible versions). Each diskette submitted must contain an ASCII text file listing each filename and a brief description of the contents of each file on the diskette. The files on the diskette, other than the table of contents, should be in Adobe Acrobat Portable Document Format (PDF) whenever possible. Petitions to deny and related pleadings must reference the file number of the pending application that is the subject of the petition.

* * * * *

14. Section 1.2105 is amended by revising paragraph (c)(6) to read as follows:

§ 1.2105 Bidding application and certification procedures; prohibition of collusion.

(c) * * *

(6) Any applicant that makes or receives a communication of bids or bidding strategies prohibited under paragraph (c)(1) of this section shall report such communication in writing to the Commission immediately, and in no case later than five business days after the communication occurs. Such reports shall be filed with the Office of the Secretary, and a copy shall be sent to the Chief of the Auctions and Spectrum Access Division, Wireless Telecommunications Bureau.

* * * * *

[FR Doc. 06-2917 Filed 3-28-06; 8:45 am]

BILLING CODE 6712-01-P